DEPARTMENT OF DEFENSE

Department of the Air Force

Local Redevelopment Authority And Available Surplus Buildings And Land At Four Lakes Communications Station, Located In Cheney, WA

AGENCY: Department of the Air Force, DoD.

ACTION: Notice.

SUMMARY: This notice provides information regarding the surplus property at Four Lakes Communications Station in Cheney, Washington.

FOR FURTHER INFORMATION: Contact Mr. Thomas B. Kempster, Special Assistant, Air Force Real Property Agency, 1700 North Moore Street, Suite 2300, Arlington, VA 22209-2802, telephone (703) 696-5532.

SUPPLEMENTARY INFORMATION: This surplus property is available under the provisions of the Federal Property and Administrative Services Act of 1949 as amended (40 U.S.C. 501 et seq.) and the Base Closure Community Redevelopment and Assistance Act of 1994.

Notice of Surplus Property: Pursuant to paragraph (7) (B) of section 2905(b) of the Defense Base Closure and Realignment Act of 1990, as amended by the Base Closure Community Redevelopment and Homeless Assistance Act of 1994 (Public Law 103-421), the following information regarding the surplus property described herein.

Surplus Property Description: Land: The property consists of 63 acres of land in two adjacent parcels and a 93 acre line-of-sight easement. Buildings/Structures: 11 buildings containing 67,890 sq ft.

Expressions of Interest: Pursuant to paragraph 7(C) of Section 2905(b) of the Defense Base Closure and Realignment Act of 1990, as amended by the Base Closure and Community Redevelopment and Homeless Assistance Act of 1994, state and local governments, representatives of the homeless, and other interested parties located in the vicinity of Four Lakes Communications Station, Cheney, WA shall submit to Mr. Thomas B. Kempster, Special Assistant, Air Force Real Property Agency, 1700 North Moore Street, Suite 2300, Arlington, VA 22209-2802, a notice of interest, of such governments, representatives, and parties in the above described surplus property, or any portion thereof. A notice shall describe the need of the government, representative, or party concerned, for the desired surplus property. The date by which expressions of interest must be submitted shall be ninety (90) days from the date of publication of this notice.

Bao-Anh Trinh, DAF,
Air Force Federal Register Liaison Officer.

[FR Doc. E6-8224 Filed 5-26-06; 8:45 am]

BILLING CODE 5001-05-P